FEDERAL DEPOSIT INSURANCE CORPORATION

Agency Information Collection Activities: Agency Information Collection Activities: Submission for OMB Review; Comment Request; OMB No. 3064-NEW

AGENCY: Federal Deposit Insurance Corporation (FDIC).

ACTION: Agency Information Collection Activities: Submission for OMB Review; comment request.

SUMMARY: The Federal Deposit Insurance Corporation (FDIC) will submit the information collection described below to OMB for review and clearance under the Paperwork Reduction Act of 1995, on or after the date of publication of this notice. Notice of the proposed new information collection was previously published in the Federal Register on January20, 2022, allowing for a 60-day comment period.

DATES: Comments must be submitted on or before April 25, 2022.

ADDRESSES: Interested parties are invited to submit written comments to the FDIC by any of the following methods:

• Agency website: https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: The FDIC will submit the following information collection to OMB for review and clearance under the Paperwork Reduction Act of 1995, Public Law 104-13 on or after the date of publication of this notice:

Title: Post-Examination Surveys.

OMB Number: 3064-NEW.

Frequency of Response: On occasion.

Affected Public: FDIC-supervised insured depository institutions.

Forms: 6600/58 (Post Examination Survey Safety and Soundness Exams); 6600/59 (Post Examination Survey Compliance and CRA Exams).

Burden Estimate:

Summary of Estimated Annual Burden—Post-Examination Surveys
Information collection (IC) description | Type of burden | Estimated number of respondents | Estimated frequency of response | Estimated time per response (minutes) | Total estimated annual burden (hours)
Safety and Soundness Post-Examination Survey | Reporting | 605 | On Occasion | 45 | 454
Consumer Compliance Post-Examination Survey | Reporting | 550 | On Occasion | 45 | 413
Total Estimated Annual Burden |  |  |  |  | 867

General Description of Collection: The purpose of the surveys is to gauge bankers' views on the effectiveness and quality of FDIC Safety and Soundness and Consumer Compliance examinations, as well as to identify ways to improve the examination process. Respondents will be asked to voluntarily rate the efficiency of the pre-examination process; examiners' professionalism and understanding of the laws and regulations; the examination process; and examination report quality. Respondents will also be allowed to provide feedback on any areas for improvement and will be given an option to have someone from the FDIC Office of the Ombudsman contact the institution confidentially about its recent examination or any other matters. Interested members of the public may obtain a copy of the proposed survey questionnaires on the following web pages:

• https://www.fdic.gov/resources/regulations/federal-register-publications/2022/fdic-6600-58.pdf

• https://www.fdic.gov/resources/regulations/federal-register-publications/2022/fdic-6600-59.pdf

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 17, 2022.
James P. Sheesley,
Assistant Executive Secretary.

[FR Doc. 2022-06181 Filed 3-23-22; 8:45 am]

BILLING CODE 6714-01-P